DEPARTMENT OF COMMERCE

National Oceanic and Atmospheric Administration

RIN: 0648-XQ68

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the ABC Control Rule Workgroup.

DATES: The meeting will convene at 1 p.m. on Monday, August 17, 2009 and conclude by 3 p.m. on Tuesday, August 18, 2009.

ADDRESSES: The meeting will be held at the Quorum, 700 N. Westshore Blvd, Tampa, FL 33609, telephone: (813) 289-8200.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The ABC Control Rule Workgroup will meet to begin the process of developing a structured decision making framework to assist in assessing scientific uncertainty, the probability of overfishing, and acceptable levels of risk when setting acceptable biological catch (ABC). The working group includes Council members, Council staff, NOAA staff, and members of the Scientific and Statistical Committee (SSC). Under the Magnuson-Stevens Fishery Conservation and Management Reauthorization Act of 2006, the SSC is charged with setting ABC levels for managed stocks that account for scientific uncertainty in the estimate of the overfishing limit (OFL) and any other scientific uncertainty. Determining an acceptable level of risk of overfishing when setting ABC is a policy issue that requires input from both scientists and managers. The meeting will include discussions on the Magnuson-Stevens Act National Standard 1 guidelines, sources of scientific uncertainty, approaches to developing control rules for setting ABC including decision trees and analytical methods, and scheduling of future actions by the working group.

Copies of the agenda and other related materials can be obtained by calling (813) 348-1630.

Although other non-emergency issues not on the agenda may come before the ABC Control Rule Workgroup for discussion, in accordance with the Magnuson-Stevens Fishery Conservation and Management Act (Magnuson-Stevens Act), those issues may not be the subject of formal action during this meeting. Actions of the ABC Control Rule Workgroup will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: July 29, 2009.
Tracey L. Thompson,
Acting Director, Office of Sustainable Fisheries, National Marine Fisheries Service.

[FR Doc. E9-18403 Filed 7-31-09; 8:45 am]

BILLING CODE 3510-22-S